DEPARTMENT OF THE INTERIOR

Bureau of Land Management

[LLNV952000 L14400000.BJ0000.LXSSF2210000.241A; 13-08807; MO# 4500101550; TAS: 15X1109]

Filing of Plats of Survey; NV

AGENCY: Bureau of Land Management, Interior.

ACTION: Notice.

SUMMARY: The purpose of this notice is to inform the public and interested State and local government officials of the filing of Plats of Survey in Nevada.

DATES: Effective Dates: Unless otherwise stated filing is effective at 10:00 a.m. on the dates indicated below.

FOR FURTHER INFORMATION CONTACT: Michael O. Harmening, Chief, Branch of Geographic Sciences, Bureau of Land Management, Nevada State Office, 1340 Financial Blvd., Reno, NV 89502-7147, phone: 775-861-6490. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION:

1. The Plat of Survey of the following described lands was officially filed at the Bureau of Land Management (BLM) Nevada State Office, Reno, Nevada on August 25, 2016:

The plat, in 1 sheet, representing the dependent resurvey of a portion of the subdivisional lines, the subdivision or section 24, and a metes-and-bounds survey of a portion of the centerline of Nevada State Route 147 (Lake Mead Blvd.) in section 24, Township 20 South, Range 62 East, Mount Diablo Meridian, Nevada, under Group No. 944, was accepted August 24, 2016. This survey was executed to identify the boundaries for disposal of certain public lands for the Las Vegas Police Shooting Range, authorized under Public Law 113-291.

2. The Plat of Survey of the following described lands was officially filed at the Bureau of Land Management (BLM) Nevada State Office, Reno, Nevada on August 26, 2016:

The plat, in 1 sheet, representing the dependent resurvey of a portion of the north boundary, a portion of the subdivisional lines and portions of Mineral Survey No. 4960, Township 20 South, Range 59 East, Mount Diablo Meridian, Nevada, under Group No. 950, was accepted August 25, 2016. This survey was executed to locate specific high-risk boundaries and to describe additions to the Red Rock Canyon National Conservation Area authorized by Public Law 113-291.

3. The Plat of Survey of the following described lands was officially filed at the Bureau of Land Management (BLM) Nevada State Office, Reno, Nevada on September 12, 2016:

The plat, in 3 sheets, representing the dependent resurvey of a portion of the east boundary and a portion of the subdivisional lines, the subdivision of sections 14, 24 and 25, a metes-and-bounds survey through sections 13 and 14, and a metes-and-bounds survey of a portion of the centerline of Las Vegas Boulevard in section 25, Township 19 South, Range 62 East, Mount Diablo Meridian, Nevada, under Group No. 959, was accepted September 1, 2016. This survey was executed to identify lands to be withdrawn for addition to Nellis Air Force Base, authorized by Public Law 113-291 and shown on the maps entitled “Nellis Dunes OHV Recreation Area”, dated June 26, 2012 and “North Las Vegas Valley Overview”, dated November 5, 2013.

4. The Plat of Survey of the following described lands was officially filed at the Bureau of Land Management (BLM) Nevada State Office, Reno, Nevada on September 30, 2016:

The plat, in 1 sheet, representing the dependent resurvey of a portion of the south boundary, a portion of the subdivisional lines and the subdivision of section 34, Township 43 North, Range 26 East, Mount Diablo Meridian, Nevada, under Group No. 936, was accepted September 28, 2016. This survey was executed to meet certain administrative needs of the Bureau of Land Management.

The surveys listed above are now the basic record for describing the lands for all authorized purposes. These records have been placed in the open files in the BLM Nevada State Office and are available to the public as a matter of information. Copies of the surveys and related field notes may be furnished to the public upon payment of the appropriate fees.

Dated: November 9, 2016.
Michael O. Harmening,
Chief Cadastral Surveyor, Nevada.

[FR Doc. 2016-27764 Filed 11-17-16; 8:45 am]

BILLING CODE 4310-HC-P